DEPARTMENT OF HOUSING AND URBAN DEVELOPMENT

[Docket No. FR-5500-N-18

Notice of Funding Availability (NOFA) for HUD's Fiscal Year 2011 HOPE VI Main Street Grants

AGENCY: Office of the Chief of the Human Capital Officer, HUD.

ACTION: Notice.

SUMMARY: HUD announces the availability on its Web site and http://www.Grants.gov of the applicant information, submission deadlines, funding criteria, and other requirements for HUD's FY2011 HOPE VI Main Street Grants NOFA. Specifically, this NOFA announces the availability of approximately $500,000 made available under the Department of Defense and Full-Year Continuing Appropriations Act, 2011, Public Law 112-10, approved April 15, 2011.

The purpose of the Main Street Grants program is to provide grants to small communities to assist in the rejuvenation of an historic or traditional central business district or “Main Street” area by replacing unused commercial space in buildings with affordable housing units.

The objectives of the program are to:

1. Redevelop Main Street areas;

2. Preserve historic or traditional architecture or design features in Main Street areas;

3. Enhance economic development efforts in Main Street areas; and

4. Provide affordable housing in Main Street areas.

The notice providing information regarding the application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail.

The link from the funds available page will take you to the agency link on Grants.gov.

The Catalogue of Federal Domestic Assistance (CFDA) number for this program is 14.878. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: June 27, 2011.
Barbara S. Dorf,
Director, Office of Departmental Grants, Management and Oversight, Office of the Chief of the Human Capital Officer.

[FR Doc. 2011-16492 Filed 6-29-11; 8:45 am]

BILLING CODE 4210-67-P